DEPARTMENT OF VETERANS AFFAIRS

Advisory Committee on Former Prisoners of War, Notice of Meeting

The Department of Veterans Affairs (VA) gives notice under Public Law 92-463 that a meeting of the Advisory Committee on Former Prisoners of War will be held on December 4-6, 2000, at the John D. Dingell VA Medical Center, 4646 John R, Room B-5327, Detroit, Michigan 48201. Each day the meeting will convene at 9:00 a.m. and end at 4:30 p.m. The meeting is open to the public.

The purpose of the committee is to advise the Secretary of Veterans Affairs on the administration of benefits under Title 38, United States Code, for veterans who are former prisoners of war, and to make recommendations on the needs of such veterans for compensation, health care and rehabilitation.

The agenda for December 4 will begin with an introduction of committee members and dignitaries, a review of Committee reports, an update of activities since the last meeting, and a period for POW veterans and/or the public to address the committee. The Committee will also review the Secretary's response to the April and October 2000 report of meeting, and receive presentations on the Veterans Benefits Administration and Veterans Health Administration activities, as well as on the Robert E. Mitchell Center for POW Studies. The agenda on December 5 will include presentations by representatives of POW and other veterans service organizations, a report of the Expert Panel on Stroke, discussion of recommended presumptive diseases for former POWs and a review of POW lists by VA and the Department of Defense. The committee will also take up consideration of priority for POWs in Long-Term Health Care programs and other issues. On December 6, the Committee's Medical and Administrative subcommittees will break out to discuss their activities and report back to the Committee.

Additionally, the Committee will review and analyze the comments discussed throughout the meeting for the purpose of assisting and compiling a final report to be sent to the Secretary.

Members of the public may direct questions or submit prepared statements for review by the Committee in advance of the meeting, in writing only, to Mr. Robert J. Epley, Director, Compensation and Pension Service (216), Department of Veterans Affairs, 810 Vermont Avenue, NW, Washington, DC 20420. Submitted materials must be received by November 22, 2000. A report of the meeting and roster of Committee members may be obtained from Mr. Epley.

Dated: October 24, 2000.
By Direction of the Secretary.
Marvin R. Eason,
Committee Management Officer.

[FR Doc. 00-28080 Filed 11-01-00; 8:45 am]

BILLING CODE 8320-01-M